DEPARTMENT OF THE INTERIOR

Bureau of Land Management

[WY-100-1430-ES; WYW-06321501]

Notice of Realty Action; Recreation and Public Purposes Act Classification; Wyoming

AGENCY: Bureau of Land Management, Interior.

ACTION: Notice of Realty Action.

SUMMARY: The Bureau of Land Management (BLM) has examined and found suitable for classification for conveyance under the provisions of the Recreation and Public Purposes Act a parcel of public lands located near LaBarge, in Lincoln County, Wyoming. The land has been leased under the Recreation and Public Purposes Act to the Town of LaBarge for use as a sanitary landfill since 1981, but has been closed to disposal of waste generally, since 1995. The Town of LaBarge intends to use the lands for a solid waste transfer facility.

DATES: Interested persons may submit written comments to the BLM at the address stated below. Comments must be received no later than May 11, 2007.

ADDRESSES: Bureau of Land Management, Pinedale Field Office, 432 East Mill Street, P.O. Box 768, Pinedale, Wyoming 82941.

FOR FURTHER INFORMATION CONTACT: Bill Wadsworth, Realty Specialist, at the address above or at 307-367-5341.

SUPPLEMENTARY INFORMATION: The following described public land in Lincoln County, Wyoming, has been examined and found suitable for classification for conveyance under the provisions of the Recreation and Public Purposes (R&PP) Act, as amended (43 U.S.C. 869 et seq.) and is hereby classified accordingly:

WYW-06321501—LaBarge, WY—Closed landfill and current solid waste transfer facility currently under lease to Town of LaBarge to be classified for conveyance:

Sixth Principal Meridian, Lincoln County, Wyoming

T. 26 N., R. 112 W.,

Sec. 6, Lots 4, 31, 32.

The land described contains 30.82 acres.

In accordance with the R&PP Act and implementing regulation, at 43 CFR part 2740, the Town of LaBarge has filed a R&PP petition/application and plan of development in which it proposes to use the above described public lands for a closed landfill and a solid waste transfer facility. The lands are not needed for federal purposes. Conveyance pursuant to the R&PP Act is consistent with the Pinedale Resource Management Plan, dated December 12, 1988, and would be in the public interest.

The conveyance, when issued, will be subject to the following terms, conditions, and reservations:

1. Provisions of the R&PP Act and to all applicable regulations, including but not limited to the regulations stated in 43 CFR part 2740, and policy and guidance of the Secretary of the Interior.

2. Reservation of a right-of-way to the United States for ditches and canals pursuant to the Act of August 30, 1890, 43 U.S.C. 945.

3. All minerals shall be reserved to the United States, together with the right to prospect for, mine and remove the minerals under applicable laws and regulations established by the Secretary of the Interior, including all necessary access and exit rights.

4. No portion of the lands patented shall revert back to the United States under any circumstances. In addition, the patentee shall comply with all Federal and State laws applicable to the disposal, placement, or release of hazardous substances (substance as defined in 40 CFR part 302) and indemnify the United States against any legal liability or future costs that may arise out of any violation of such laws.

5. All valid existing rights of record, including those documented on the official public land records at the time of lease/patent issuance.

6. Pursuant to the requirements established by section 120(h) of the Comprehensive Environmental Response, Compensation and Liability Act, (42 U.S.C. 9620(h)) (CERCLA), as amended by the Superfund Amendments and Reauthorization Act of 1988, (100 Stat. 1670) notice is hereby given that the above-described lands have been examined and no evidence was found to indicate that any hazardous substances had been stored for one year or more, nor had any hazardous substances been disposed of or released on the subject property.

7. The purchaser/patentee, by accepting a patent, covenants and agrees to indemnify, defend, and hold the United States harmless from any costs, damages, claims, causes of action, penalties, fines, liabilities, and judgments of any kind or nature arising from the past, present, and future acts or omissions of the patentees or their employees, agents, contractors, lessees, or any third party, arising out of or in connection with the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of Federal, state, and local laws and regulations that are now or may in the future become, applicable to the real property; (2) Judgments, claims or demands of any kind assessed against the United States; (3) Costs, expenses, or damages of any kind incurred by the United States; (4) Releases or threatened releases of solid or hazardous waste(s), and/or hazardous substance(s), as defined by Federal or state environmental laws, off, on, into or under land, property and other interests of the United States; (5) Activities by which solid waste or hazardous substances(s) or waste, as defined by Federal and state environmental laws are generated, released, stored, used or otherwise disposed of on the patented real property, and any cleanup response, remedial action or other actions related in any manner to said solid or hazardous substances(s) or waste(s); or (6) Natural resource damages as defined by Federal and state law. This covenant shall be construed as running with the parcels of land patented or otherwise conveyed by the United States, and may be enforced by the United States in a court of competent jurisdiction. Detailed information concerning the proposed actions, including but not limited to documentation relating to compliance with applicable environmental and cultural resource laws, is available for review at the BLM, Pinedale Field Office, 432 East Mill Street, P.O. Box 768, Pinedale, WY 82941, telephone: 307-367-5341.

On March 27, 2007, the above described lands will be segregated from all other forms of appropriation under the public land laws, including the general mining laws, except for lease or conveyance under the R&PP Act and leasing under the mineral leasing laws. Interested parties may submit written comments regarding the proposed conveyance or classification of the lands to the Field Manager, Pinedale Field Office, at the address stated above in this notice for that purpose. Comments must be received no later than May 11, 2007. Before including your address, phone number, e-mail address, or other personal identifying information in your comment, you should be aware that your entire comment—including your personal identifying information—may be made publicly available at any time. While you can ask us in your comment to withhold your personal identifying information, we cannot guarantee that we will be able to do so.

Classification Comments: Interested parties may submit comments involving the suitability of the lands for conveyance for the closed landfill and solid waste transfer facilities. Comments on the classification(s) are restricted to whether the land is physically suited for the proposal, whether the use will maximize the future use or uses of the land, and whether the use is consistent with local planning and zoning, or if the use is consistent with State and Federal programs.

Application Comments: Interested parties may submit comments regarding the specific use proposed in the application and plan of development, whether the BLM followed proper administrative procedures in reaching the decision; or any other factor not directly related to the suitability of the lands for closed landfill and solid waste transfer facilities. Any adverse comments will be reviewed by the State Director, who may sustain, vacate, or modify this realty action. In the absence of any adverse comments, the classification will become effective 60 days after March 27, 2007.

(Authority: 43 CFR 2741.5)

Dated: February 5, 2007.
William Lanning,
Associate Field Manager.

[FR Doc. E7-5543 Filed 3-26-07; 8:45 am]

BILLING CODE 4310-22-P